DEPARTMENT OF COMMERCE

Foreign-Trade Zones Board

[Docket 8-2009]

Termination of Review of Sourcing Change, Foreign-Trade Subzone 7M, Amgen Manufacturing Limited (Biotechnology and Healthcare Products), Juncos, PR

Notice is hereby given of termination of a sourcing change review related to certain packaging components at Foreign-Trade Subzone 7M at the facility of Amgen Manufacturing Limited, located in Juncos, Puerto Rico (74 FR 10884, 3/13/09). The termination is based on an analysis of the record and resulting determination that no further action is warranted.

Dated: October 8, 2009.
Elizabeth Whiteman,
Acting Executive Secretary.

[FR Doc. E9-24971 Filed 10-15-09; 8:45 am]

BILLING CODE P